SMALL BUSINESS ADMINISTRATION

[Declaration of Disaster #3635]

State of Florida

As a result of the President's major disaster declaration on September 26, 2004, and a notice received from the Department of Homeland Security—Federal Emergency Management Agency—on September 27, 2004, I find that Brevard, Hardee, Hernando, Highlands, Hillsborough, Indian River, Lake, Marion, Martin, Okeechobee, Orange, Osceola, Palm Beach, Pasco, Pinellas, Polk, Seminole, St. Lucie, Sumter, and Volusia Counties in the State of Florida constitute a disaster area due to damages caused by Hurricane Jeanne occurring on September 24, 2004 and continuing. Applications for loans for physical damage as a result of this disaster may be filed until the close of business on November 26, 2004 and for economic injury until the close of business on June 27, 2005 at the address listed below or other locally announced locations: U.S. Small Business Administration, Disaster Area 2 Office, One Baltimore Place, Suite 300, Atlanta, GA 30308.

In addition, applications for economic injury loans from small businesses located in the following contiguous counties may be filed until the specified date at the above location: Alachua, Broward, Charlotte, Citrus, DeSoto, Flagler, Glades, Hendry, Levy, Manatee, and Putnam in the State of Florida.

The interest rates are:

| Percent
For Physical Damage:
Homeowners with credit available elsewhere | 6.375
Homeowners without credit available elsewhere | 3.187
Businesses with credit available elsewhere | 5.800
Businesses and non-profit organizations without credit available elsewhere | 2.900
Others (including non-profit organizations) with credit available elsewhere | 4.875
For Economic Injury
Businesses and small agricultural cooperatives without credit available elsewhere | 2.900

The number assigned to this disaster for physical damage is 363508 and for economic injury the number is 9AA400.

(Catalog of Federal Domestic Assistance Program Nos. 59002 and 59008).

Dated: September 28, 2004.
Herbert L. Mitchell,
Associate Administrator for Disaster Assistance.

[FR Doc. 04-22290 Filed 10-4-04; 8:45 am]

BILLING CODE 8025-01-P